COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes services previously furnished by such agencies.

DATES: Comments must be received on or before: July 7, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities. The following products and services are proposed for addition to the Procurement List for production by the nonprofit agencies listed:

Products

NSNs—Product Names:

5350-00-NIB-0013—Paper, Abrasive, Aluminum Oxide, 9″ x 11″ Sheet, 220 Grit

5350-00-NIB-0014—Paper, Abrasive, Aluminum Oxide, 9″ x 11″ Sheet, 180A Grit

5350-00-NIB-0056—Paper, Abrasive, Aluminum Oxide, 9 x 11″ Sheet, 150C Grit

5350-00-NIB-0015—Paper, Abrasive, Aluminum Oxide, 9″ x 11″ Sheet, 120 Grit

5350-00-NIB-0016—Paper, Abrasive, Aluminum Oxide, 9″ x 11″ Sheet, 60D Grit

5350-00-NIB-0052—Paper, Abrasive, Silicon Carbide, Wet or Dry, 9″ x 11″ Sheet, 1500A Grit

5350-00-NIB-0057—Sponge, Abrasive, Wet or Dry, 3.75″ x 2.625″ x 1″, Fine Grit

5350-00-NIB-0058—Sponge, Abrasive, Wet or Dry, 3.75″ x 2.625″ x 1″, Medium Grit

Mandatory Source of Supply: Industries for the Blind and Visually Impaired, Inc., West Allis, WI

Mandatory For: Total Government Requirement

Contracting Activity: FEDERAL ACQUISITION SERVICE, GSA/FSS GREATER SOUTHWEST ACQUISITI

NSN—Product Name: 7920-00-NIB-0731—Handle, Extension, Fiberglass, 5 ft-10 ft

Mandatory Source of Supply: Industries for the Blind and Visually Impaired, Inc., West Allis, WI

Mandatory For: Total Government Requirement

Contracting Activity: FEDERAL ACQUISITION SERVICE, GSA/FSS GREATER SOUTHWEST ACQUISITI

NSNs—Product Names:

MR 13041—Box, Insulated, Assorted Colors, Lunch

MR 13042—Bag, Triangular, Assorted Colors, Lunch

MR 13044—Bag, Round Handle, Assorted Colors, Lunch

MR 13067—Container, Clip Top, Ice Pack, Assorted Colors

MR 13068—Container, Multi-Pack, Assorted Colors

MR 13069—Container, Noodles, Assorted Colors

MR 13070—Mug, Soup, 24 oz, Assorted Colors

MR 13071—Mug, Thermal, Assorted Colors

MR 13072—Container, Snap Top, Assorted Colors

MR 11086—Bag, Tote, Reusable, Collapsible, Halloween

Mandatory Source of Supply: West Texas Lighthouse for the Blind, San Angelo, TX

Mandatory For: The requirements of military commissaries and exchanges in accordance with the 41 CFR 51-6.4

Contracting Activity: Defense Commissary Agency

NSN—Product Name: 8540-00-291-0389—Towel, Multifold, 3 Panel, Natural

Mandatory Source of Supply: Outlook Nebraska, Inc, Omaha, NE

Mandatory For: Total Government Requirement

Contracting Activity: FEDERAL ACQUISITION SERVICE, GSA/FAS ADMIN SVCS ACQUISITION BR(2

NSN—Product Name: 7930-00-NIB-0076—Anti-static Screen Cleaner, Spray bottle, 12 oz.

Mandatory Source of Supply: Chicago Lighthouse Industries, Chicago, IL

Mandatory For: Total Government Requirement

Contracting Activity: FEDERAL ACQUISITION SERVICE, GSA/FSS GREATER SOUTHWEST ACQUISITI

NSNs—Product Names:

6840-00-NIB-0120—Rodent Control Cardboard Tube, 6″

6840-00-NIB-0121—Rodent Control Cardboard Tube, 12″

Mandatory Source of Supply: Tarrant County Association for the Blind, Fort Worth, TX

Mandatory For: 100% of the requirement for USDA, Animal & Plant Health Inspection Service

Contracting Activity: USDA APHIS MRPBS

NSNs—Product Names:

7530-00-NIB-1274—Surface Safe Sign Label, Removable, Laser/Inkjet, White, 3½″ x 5″, 15 Sheets

7530-00-NIB-1275—Surface Safe Sign Label, Removable, Laser/Inkjet, White, 5″ x 7″, 15 Sheets

7530-00-NIB-1276—Surface Safe Sign Label, Removable, Laser/Inkjet, White, 7″ x 10″, 15 Sheets

7530-00-NIB-1277—Surface Safe Sign Label, Removable, Laser/Inkjet, White, 8″ x 8″, 15 Sheets

7530-00-NIB-1220—Labels, Self-Laminating, Laser/Inkjet, White, 2 5/16″ x 3 5/16″, 25 Sheets

7530-00-NIB-1223—Labels, Self-Laminating, Laser/Inkjet, White, 1 1/32″ x 3½″, 25 Sheets

7530-00-NIB-1278—Business Cards, Uncoated, Two-Sided Printing, White, 2″ x 3½″, 200 Cards

7530-00-NIB-1287—Business Cards, Uncoated, Two-Sided Printing, White, 2″ x 3½″, 1000 Cards

7530-00-NIB-1279—Tent Cards, Uncoated, Embossed, Two-Sided Printing, White, 3½″ x 11″, 50 Cards

7530-00-NIB-1280—Tent Cards, Uncoated, Embossed, Two-Sided Printing, White, 2½″ x 8½″, 100 Cards

7530-00-NIB-1270—Name Badge, Laser/Inkjet, 2⅓″ x 3⅜″, White, 50 Sheets

Mandatory Source of Supply: North Central Sight Services, Inc., Williamsport, PA

Mandatory For: Total Government Requirement

Contracting Activity: GSA/FAS ADMIN SVCS ACQUISITION BR(2

Services

Service Type: Custodial Service

Mandatory for: US Air Force, Columbus AFB (including Shuqualak Auxiliary Airfield, Shuqualak, MS), Columbus, MS

Mandatory Source of Supply: Training, Rehabilitation, & Development Institute, Inc., San Antonio, TX

Contracting Activity: DEPT OF THE AIR FORCE, FA3022 14 CONS LGCA

Service Type: Meal provision

Mandatory for: U.S. Customs and Border Protection, Area Port of Calexico, Calexico, CA

Mandatory Source of Supply: ARC-Imperial Valley, El Centro, CA

Contracting Activity: U.S. CUSTOMS AND BORDER PROTECTION, BORDER ENFORCEMENT CTR DIV

Service Type: Custodial and Related Services

Mandatory for: GSA PBS Region 3, Clarksburg U.S. Post Office Building, Clarksburg, WV

Mandatory Source of Supply: Job Squad, Inc., Bridgeport, WV

Contracting Activity: PUBLIC BUILDINGS SERVICE, PBS R3

Service Type: Food Service

Mandatory for: Department of Transportation, Maritime Administration, US Merchant Marine Academy, Kings Point, NY

Mandatory Source of Supply: Access: Supports for Living, Inc., Middletown, NY

Contracting Activity: Department of Transportation, Maritime Administration HQ

Deletions

The following services are proposed for deletion from the Procurement List:

Services

Service Type: Janitorial/Custodial

Mandatory for: U.S. Army Space & Missile Defense Command, Arlington, VA

Mandatory Source of Supply: ServiceSource, Inc., Oakton, VA

Contracting Activity: DEPT OF THE ARMY, W40M RHCO-ATLANTIC USAHCA

Service Type: Janitorial/Custodial

Mandatory for: U.S. Federal Building: Building #111 JFK International Airport, Jamaica, NY

Mandatory Source of Supply: Fedcap Rehabilitation Services, Inc., New York, NY

Contracting Activity: PUBLIC BUILDINGS SERVICE, GSA PBS R2 ACQUISITION MANAGEMENT DIVISION

Service Type: Food Service

Mandatory for: Ellington Field Air National Guard Base: Texas Air National Guard, Houston,

Mandatory Source of Supply: CRI Federal Services, Houston, TX

Contracting Activity: DEPT OF THE ARMY, W7N2 USPFO ACTIVITY TX ARNG

Service Type: Laundry Service

Mandatory for: U.S. Mint: 155 Hermann Street, San Francisco, CA

Mandatory Source of Supply: Toolworks, Inc., San Francisco, CA

Contracting Activity: UNITED STATES MINT, DEPT OF TREAS/U.S. MINT

Service Type: Laundry and Linen Service

Mandatory for: US Air Force, MacDill AFB, FL

Mandatory Source of Supply: Goodwill Industries of South Florida, Inc., Miami, FL

Contracting Activity: DEPT OF THE AIR FORCE, FA4814 6 CONS LGCP

Service Type: Document Destruction Service

Mandatory for: USDA, 6200 Jefferson St. NE, Albuquerque, NM

Mandatory Source of Supply: Adelante Development Center, Inc., Albuquerque, NM

Contracting Activity: NATURAL RESOURCES CONSERVATION SERVICE, NM STATE OFFICE (NRCS)

Service Type: Janitorial/Custodial

Mandatory for: Defense Logistics Agency: Defense Fuel Region West, Building 100, San Pedro, CA

Mandatory Source of Supply: UNKNOWN

Contracting Activity: DEFENSE LOGISTICS AGENCY, DLA SUPPORT SERVICES—DSS

Michael R. Jurkowski,
Deputy Director, Business & PL Operations.

[FR Doc. 2019-11958 Filed 6-6-19; 8:45 am]

BILLING CODE 6353-01-P